DEPARTMENT OF AGRICULTURE

National Institute of Food and Agriculture

7 CFR Part 3430

[0524-AA61]

Competitive and Noncompetitive Nonformula Federal Assistance Programs—Administrative Provisions for Biomass Research and Development Initiative; Technical Amendments

AGENCY: National Institute of Food and Agriculture, USDA.

ACTION: Final rule; technical amendments.

SUMMARY: The National Institute of Food and Agriculture (NIFA) published in the Federal Register of June 17, 2011, a document adopting as final an interim rule published June 14, 2010, which contained a set of specific administrative requirements for the Biomass Research and Development Initiative (BRDI). This document contains minor changes to those regulations.

DATES: Effective on July 1, 2011.

FOR FURTHER INFORMATION CONTACT: Carmela Bailey, National Program Leader, Plant and Animal Systems, National Institute of Food and Agriculture, U.S. Department of Agriculture, STOP 3356, 1400 Independence Avenue, SW., Washington, DC 20250-2299; Voice: 202-401-6443; Fax: 202-401-4888; E-mail: cbailey@NIFA.usda.gov.

SUPPLEMENTARY INFORMATION: On June 14, 2010, NIFA published an interim rule (75 FR 33497) with a 120-day comment period to provide administrative provisions that are specific to the Federal assistance awards made under section 9008(e) of the Farm Security and Rural Investment Act of 2002 (FSRIA), Public Law 107-171 (7 U.S.C. 8108(e)), as amended by section 9001 of the Food, Conservation, and Energy Act of 2008 (FCEA), Public Law 110-246, providing authority to the Secretary of Agriculture and the Secretary of Energy, to establish and carry out a joint Biomass Research and Development Initiative (BRDI) under which competitively awarded grants, contracts, and financial assistance are provided to, or entered into with, eligible entities to carry out research on and development and demonstration of biofuels and biobased products; and the methods, practices, and technologies for the production of biofuels and biobased products. No program specific comments were received. NIFA intended to proceed with the final rule with only minimal changes but published in the Federal Register of June 17, 2011, a document adopting as final the interim rule published June 14, 2010. This document amends the rule to include the intended minor changes to those regulations. Sections 3430.700, 3430.701, 3430.702 (definition of “Advisory Committee”), 3430.705, 3430.707, and 3430.708 are amended to correct or add citations and cross-references. Additionally, section 3430.705 is amended to make minor revisions to the facility cost prohibition for purposes of consistency with other program regulations in 7 CFR part 3430. Finally, section 3430.706 is amended to clarify that the required non-Federal cost-share is a percentage of project cost, not Federal funds awarded.

List of Subjects in 7 CFR Part 3430

Administrative practice and procedure, Agricultural research, Education, Extension, Federal assistance.

Accordingly, 7 CFR part 3430 is amended as follows:

PART 3430—COMPETITIVE AND NONCOMPETITIVE NON-FORMULA FEDERAL ASSISTANCE PROGRAMS—GENERAL AWARD ADMINISTRATIVE PROVISIONS

1. The authority citation for part 3430 continues to read as follows:

Authority: 7 U.S.C. 3316; Pub. L. 106-107 (31 U.S.C. 6101 note).

2. Revise § 3430.700 to read as follows:

§ 3430.700 Applicability of regulations.

The regulations in this subpart apply to the Federal assistance awards made under the program authorized under section 9008 of the Farm Security and Rural Investment Act of 2002 (7 U.S.C. 8108), as amended by section 9001 of the Food, Conservation, and Energy Act of 2008 (Pub. L. 110-246).

3. Amend § 3430.701 by revising the introductory text to read as follows:

§ 3430.701 Purpose.

In carrying out the program, NIFA, in cooperation with the Department of Energy, is authorized to make competitive awards under section 9008(e) of FSRIA (7 U.S.C. 8108(e)) to develop:

* * * * *

4. In § 3430.702, revise the definition of “Advisory Committee” to read as follows:

§ 3430.702 Definitions.

* * * * *

Advisory Committee means the Biomass Research and Development Technical Advisory Committee established by section 9008(d) of FSRIA (7 U.S.C. 8108(d)).

* * * * *

5. Amend § 3430.704 by revising paragraph (b) introductory text to read as follows:

§ 3430.704 Project types and priorities.

* * * * *

(b) Additional Considerations. Within the technical topic areas described in paragraph (a) of this section, NIFA, in cooperation with DOE, shall support research and development to—

* * * * *

6. Revise § 3430.705 to read as follows:

§ 3430.705 Funding restrictions.

(a) Facility costs. Funds made available under this subpart shall not be used for the construction of a new building or facility or the acquisition, expansion, remodeling, or alteration of an existing building or facility (including site grading and improvement, and architect fees).

(b) Indirect costs. Subject to § 3430.54, indirect costs are allowable for Federal assistance awards made by NIFA.

(c) Minimum allocations. After consultation with the Board, NIFA in cooperation with DOE, shall require that each of the three technical topic areas described in § 3430.704(a) receives not less than 15 percent of funds made available to carry out BRDI.

7. Amend § 3430.706 by revising paragraphs (a) and (b) to read as follows:

§ 3430.706 Matching requirements.

(a) Requirement for Research and/or Development Projects. The non-Federal share of the cost of a research or development project under BRDI shall be not less than 20 percent. NIFA may reduce the non-Federal share of a research or development project if the reduction is determined to be necessary and appropriate.

(b) Requirement for Demonstration and Commercial Projects. The non-Federal share of the cost of a demonstration or commercial project under BRDI shall be not less than 50 percent.

* * * * *

8. Amend § 3430.707 by revising paragraph (b)(2) to read as follows:

§ 3430.707 Administrative duties.

* * * * *

(b) * * *

(2) Included in the best practices database established under section 1672C(e) of the Food, Agriculture, Conservation, and Trade Act of 1990 (7 U.S.C. 5925e(e)).

9. Amend § 3430.708 by revising paragraph (a) to read as follows:

§ 3430.708 Review criteria.

(a) General. BRDI peer reviews of applications are conducted in accordance with requirements found in section 9008 of FSRIA (7 U.S.C. 8108); section 103 of the Agricultural Research, Extension, and Education Reform Act of 1998 (7 U.S.C. 7613); and regulations found in title 7 of the Code of Federal Regulations, sections 3430.31 through 3430.37.

* * * * *

Signed at Washington, DC, on June 22, 2011.
Chavonda Jacobs-Young,
Acting Director, National Institute of Food and Agriculture.

[FR Doc. 2011-16256 Filed 6-30-11; 8:45 am]

BILLING CODE 3410-22-P